DEPARTMENT OF AGRICULTURE

National Institute of Food and Agriculture

Solicitation of Stakeholder Input for Urban, Indoor, and Other Emerging Agricultural Production Research, Education, and Extension Initiative

AGENCY: National Institute of Food and Agriculture.

ACTION: Request for written stakeholder input.

SUMMARY: The National Institute of Food and Agriculture (NIFA) is requesting written stakeholder input on the Urban, Indoor and other Emerging Agricultural Production Research, Education and Extension Initiative. The purpose of this Notice is to assist NIFA in developing the fiscal year 2020 Request for Applications for the Urban, Indoor and other Emerging Agricultural Production Research, Education and Extension Initiative.

DATES: Written comments on this Notice must be received by June 22, 2020, to be assured of consideration. Comments received after that date will be considered to the extent practicable.

ADDRESSES: You may submit comments, identified by NIFA-2020-0001, through the Federal eRulemaking Portal: www.regulations.gov. Follow the instructions for submitting comments.

Instructions: All comments received will be posted to http://www.regulations.gov, including any personal information provided.

FOR FURTHER INFORMATION CONTACT: Bradley Rein, Agricultural Division Director; Phone: 202-445-5442; Email: brein@usda.gov.

SUPPLEMENTARY INFORMATION: NIFA is moving forward to implement Section 7212 of the Agriculture Improvement Act of 2018. This section “authorizes the Agency, in consultation with the Urban Agriculture and Innovative Production Advisory Committee established under section 222(b) of the Department of Agriculture Reorganization Act of 1994, to make competitive grants to support research, education, and extension activities for the purposes of facilitating the development of urban, indoor, and other emerging agricultural production, harvesting, transportation, aggregation, packaging, distribution and markets, including:

(1) Assessing and developing strategies to remediate contaminated sites;

(2) determining and developing the best production management and integrated pest management practices;

(3) identifying and promoting the horticultural, social, and economic factors that contribute to successful urban, indoor, and other emerging agricultural production;

(4) analyzing the means by which new agricultural sites are determined, including an evaluation of soil quality, condition of a building, or local community needs;

(5) exploring new technologies that minimize energy, lighting systems, water, and other inputs for increased food production;

(6) examining building material efficiencies and structural upgrades for the purpose of optimizing growth of agricultural products;

(7) developing new crop varieties and agricultural products to connect to new markets; or

(8) examining the impacts of crop exposure to urban elements on environmental quality and food safety.

It also authorizes the Agency to give priority consideration to grant proposals that involve—

(1) the cooperation of multiple entities; or

(2) States or regions with a high concentration of or significant interest in urban farms, rooftop farms, and indoor production facilities.

The intent of this Notice is to gather stakeholder input on the most urgent and highest priorities for research, education and extension (REE) funding authorized under the Urban, Indoor and other Emerging Agricultural Production Research, Education and Extension Initiative. NIFA seeks written feedback in response to the following two questions:

(1) Considering agricultural production through marketing; which phase has the greatest and most urgent REE needs in developing urban and indoor agriculture?

(a) Agricultural Production

(b) Harvesting

(c) Transportation

(d) Aggregation

(e) Packaging

(f) Distribution

(g) Markets

(2) Of the eight priorities listed below, which priority has the greatest and most urgent REE need in developing urban and indoor agriculture that is not being adequately addressed in other Federal REE programs:

(a) Assessing and developing strategies to remediate contaminated sites;

(b) determining and developing the best production management and integrated pest management practices;

(c) identifying and promoting the horticultural, social, and economic factors that contribute to successful urban, indoor, and other emerging agricultural production;

(d) analyzing the means by which new agricultural sites are determined, including an evaluation of soil quality, condition of a building, or local community needs;

(e) exploring new technologies that minimize energy, lighting systems, water, and other inputs for increased food production;

(f) examining building material efficiencies and structural upgrades for the purpose of optimizing growth of agricultural products;

(g) developing new crop varieties and agricultural products to connect to new markets; or

(h) examining the impacts of crop exposure to urban elements on environmental quality and food safety.

NIFA invests in Urban Agriculture research and education through its Beginning Farmers and Ranchers Development Program, AFRI Foundational Knowledge of Agriculture Production Systems, Specialty Crop Research Initiative, AFRI Small and Medium Sized Farms, Community Food Projects, and the Organic Agriculture Research and Extension Initiative. Information on these programs and how they help address urban, indoor and emerging agricultural production priorities can be found in NIFA's website through the following address: https://nifa.usda.gov/program/uie-ag.

Stephen L. Censky,
Deputy Secretary, U.S. Department of Agriculture.

[FR Doc. 2020-08402 Filed 4-20-20; 8:45 am]

BILLING CODE 3410-22-P